ENVIRONMENTAL PROTECTION AGENCY

40 CFR Part 52

[NZ001; FRL-6561-8]

Prevention of Significant Deterioration Delegation of Authority to Mendocino County Air Pollution Control District to Administer Permits Issued by EPA

AGENCY: Environmental Protection Agency (EPA).

ACTION: Notice of delegation of authority.

SUMMARY: The Regional Administrator for EPA Region 9 has delegated full authority to the Mendocino County Air Pollution Control District (District) to administer three Prevention of Significant Deterioration (PSD) permits issued by EPA.

EFFECTIVE DATE: The effective date of the delegation is February 23, 2000.

ADDRESSES: Mendocino County Air Pollution Control District, 306 E. Gobbi Street, Ukiah, CA 95482.

FOR FURTHER INFORMATION CONTACT: Nahid Zoueshtiagh, Permits Office (AIR-3), Air Division, U.S. Environmental Protection Agency, Region IX, 75 Hawthorne Street, San Francisco, CA 94105-3901, Telephone: (415) 744-1261, E-mail: Zoueshtiagh.nahid@epa.gov.

SUPPLEMENTARY INFORMATION: Pursuant to 40 CFR 52.21(u), “Delegation of authority,” the EPA has delegated authority to the District to administer the following three PSD permits issued by EPA to:

• Masonite Corporation (EPA, PSD No. NC-77-06, issued in 1977)

• Masonite Corporation (EPA, PSD No. NC-92-01, issued in 1992)

• Georgia Pacific West Inc. (EPA, PSD No. NC-79-07, issued in 1979)

In 1985, EPA approved the District's PSD program into the California State Implementation Plan (SIP) (50 FR 30943, July 31, 1985). However, the above three permits which were issued by EPA, continued to be administered by EPA. To date, administering these permits has consisted of actions on modification requests by the Permittees. While the District has now been delegated the authority to administer these permits, nothing in the delegation agreement prohibits EPA from enforcing the PSD provisions of the Clean Air Act, the PSD regulations, or future permit conditions issued by the District.

A copy of the delegation agreement between EPA and the District is available from Nahid Zoueshtiagh, Permits Office (AIR-3), Air Division, U.S. Environmental Protection Agency, Region IX, 75 Hawthorne Street, San Francisco, CA 94105-3901.

List of Subjects 40 CFR Part 52

Environmental protection, Air pollution control, Carbon monoxide, Intergovernmental relations, Nitrogen dioxide, Particulate matter, Reporting and recordkeeping requirements, Sulfur dioxide, Volatile organic compounds.

Dated: March 9, 2000.
David P. Howekamp,
Director, Air Division, Region IX.

[FR Doc. 00-6565 Filed 3-15-00; 8:45 am]

BILLING CODE 6560-50-P